DEPARTMENT OF HEALTH AND HUMAN SERVICES

National Institutes of Health

Center for Scientific Review; Amended Notice of Meeting

Notice is hereby given of a change in the meeting of the Addiction Risks and Mechanisms Study Section, February 23, 2023, 9:00 a.m. to February 24, 2023, 7:30 p.m., Darcy Hotel, 1515 Rhode Island Avenue, Washington, DC 20005 which was published in the Federal Register on January 26, 2023, 88 FR 5010.

This meeting is being amended to change the name of the hotel from Darcy Hotel, 1515 Rhode Island Avenue, Washington, DC 20005 to the Hotel George, 15 E Street NW, Washington, DC 20001. The meeting is closed to the public.

Dated: February 3, 2023.
Miguelina Perez,
Program Analyst, Office of Federal Advisory Committee Policy.

[FR Doc. 2023-02675 Filed 2-7-23; 8:45 am]

BILLING CODE 4140-01-P